DEPARTMENT OF ENERGY

Federal Energy Regulatory Commission

[Project No. 13249-001]

North Eden Hydro, LLC; Notice of Intent To File License Application, Filing of Pre-Application Document, and Approving Use of the Traditional Licensing Process

March 23, 2009.

a. Type of Filing: Notice of intent to file license application and request to use the traditional licensing process.

b. Project No.: 13249-001.

c. Date Filed: January 22, 2009.

d. Submitted by: North Eden Hydro, LLC.

e. Name of Project: North Eden Pumped Storage Hydroelectric Project.

f. Location: The project would be located in North Eden Canyon on the eastern side of Bear Lake in Rich County, Utah. The project would not occupy any Federal lands.

g. Filed Pursuant to: 18 CFR 5.3 of the Commission's regulations.

h. Potential Applicant Contact: Brent Smith, Symbiotics, LLC, P.O. Box 535, Rigby, ID 83442; (208) 745-0834; brent.smith@symbioticsenergy.com.

i. FERC Contact: Steve Hocking, (202) 502-8753 or by e-mail at steve.hocking@ferc.gov.

j. North Eden Hydro, LLC filed its request to use the Traditional Licensing Process on January 22, 2009. North Eden Hydro, LLC issued a public notice of its request on January 7, 2009. In a letter dated March 23, 2009, the Director of the Office of Energy Projects approved North Eden Hydro, LLC's request to use the Traditional Licensing Process.

k. With this notice, we are initiating informal consultation with: (a) The U.S. Fish and Wildlife Service under section 7 of the Endangered Species Act and the joint agency regulations thereunder at 50 CFR, Part 402; and (b) the Utah State Historic Preservation Officer, as required by section 106, National Historic Preservation Act, and the implementing regulations of the Advisory Council on Historic Preservation at 36 CFR 800.2.

l. North Eden Hydro, LLC filed a Pre-Application Document (PAD; including a proposed process plan and schedule) with the Commission, pursuant to 18 CFR 5.6 of the Commission's regulations.

m. A copy of the PAD is available for review at the Commission in the Public Reference Room or may be viewed on the Commission's Web site (http://www.ferc.gov), using the “eLibrary” link. Enter the docket number, excluding the last three digits, in the docket number field to access the document. For assistance, contact FERC Online Support at FERCONlineSupport@ferc.gov, or toll-free at (866) 208-3676, or for TTY, (202) 502-8659. A copy is also available for inspection and reproduction at the address in paragraph h.

n. Register online at http://ferc.gov/esubscribenow.htm to be notified via e-mail of new filings and issuances related to this or other pending projects. For assistance, contact FERC Online Support.

Kimberly D. Bose,
Secretary.

[FR Doc. E9-6874 Filed 3-26-09; 8:45 am]

BILLING CODE